DEPARTMENT OF HEALTH AND HUMAN SERVICES

Health Resources and Service Administration

Council on Graduate Medical Education; Notice of Meeting

In accordance with section 10(a)(2) of the Federal Advisory Committee Act (Pub. L. 92-463), notice is hereby given of the following meeting:

Name: Council on Graduate Medical Education (COGME).

Dates and Times: May 21, 2015 (10:00 a.m.-4:00 p.m. EST).

Place: Webinar, and Conference Call Format.

Status: The meeting will be open to the public.

Purpose: The COGME provides advice and recommendations to the Secretary of the Department of Health and Human Services and to Congress on a range of issues including the supply and distribution of physicians in the United States, current and future physician shortages or excesses, issues relating to foreign medical school graduates, the nature and financing of medical education training, and the development of performance measures and longitudinal evaluation of medical education programs. The COGME members will continue their discussion on Graduate Medical Education (GME) innovations.

Agenda: The COGME agenda includes an opportunity for members to continue their discussion on Graduate Medical Education (GME) innovations including GME architecture, reform, and financing.

The official agenda will be available 2 days prior to the meeting on the HRSA Web site at http://www.hrsa.gov/advisorycommittees/bhpradvisory/cogme/index.html

SUPPLEMENTARY INFORMATION: Members of the public will have the opportunity to provide comments. Requests to make oral comments or provide written comments to the COGME should be sent to Dr. Joan Weiss, Designated Federal Official, using the address and phone number below. Individuals who plan to participate on the conference call or webinar should notify Dr. Weiss at least 3 days prior to the meeting, using the address and phone number below. Interested parties should refer to the meeting subject as the HRSA Council on Graduate Medical Education.

The conference call-in number is: 888-566-5974. The passcode is: 4439136.

The webinar link is https://hrsa.connectsolutions.com/bhw_cogmemay2015/.

Contact: Anyone requesting information regarding the COGME should contact Dr. Joan Weiss, Designated Federal Official within the Bureau of Health Workforce, Health Resources and Services Administration, in one of three ways: (1) Send a request to the following address: Dr. Joan Weiss, Designated Federal Official, Bureau of Health Workforce, Health Resources and Services Administration, Parklawn Building, Room 12C-05, 5600 Fishers Lane, Rockville, Maryland 20857; (2) call (301) 443-0430; or (3) send an email to jweiss@hrsa.gov.

Jackie Painter,
Director, Division of the Executive Secretariat.

[FR Doc. 2015-10354 Filed 5-1-15; 8:45 am]

BILLING CODE 4165-15-P